DEPARTMENT OF LABOR

Employment and Training Administration

[TA-W-58,495; TA-W-58,495A; TA-W-58,495B]

Amended Certification Regarding Eligibility To Apply for Worker Adjustment Assistance and Alternative Trade Adjustment Assistance; the Hoover Company

In the matter of: The Hoover Company, a Subsidiary of Maytag Corporation, Currently Known as TTI Floor Care North America Floor Care Division, Main Plant, North Canton, Ohio; The Hoover Company, a Subsidiary of Maytag Corporation, Currently Known as TTI Floor Care North America Floor Care Division, Plant Two, Canton, Ohio; The Hoover Company, a Subsidiary of Maytag Corporation, Currently Known as TTI Floor Care North America Floor Care Division, Distribution Center, North Canton, Ohio; Amended Certification Regarding Eligibility To Apply for Worker Adjustment Assistance and Alternative Trade Adjustment Assistance.

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on January 24, 2006, applicable to workers of The Hoover Company, a subsidiary of Maytag Corporation, Floor Care Division, Main Plant, North Canton, Ohio, Plant Two, Canton, Ohio and Distribution Center, North Canton, Ohio. The notice was published in the Federal Register on February 3, 2006 (71 FR 5895).

At the request of the State agency, the Department reviewed the certification for workers of the subject firm. The workers are engaged in the production of vacuums and disposable vacuum cleaner bags and the distribution of those articles.

New information shows that TTI Floor Care North America purchased The Hoover Company in February 2007 and is currently known as TTI Floor Care North America.

Accordingly, the Department is amending this certification to show that The Hoover Company is currently known as TTI Floor Care North America.

The intent of the Department's certification is to include all workers of The Hoover Company, currently known as TTI Floor Care North America, Floor Care Division, Main Plant, Plant Two and Distribution Center who were adversely affected by a shift in production of vacuums and disposable vacuum cleaner bags and the distribution of those articles to Mexico and China.

The amended notice applicable to TA-W-58,495 is hereby issued as follows:

All workers of The Hoover Company, a subsidiary of Maytag Corporation, currently known as TTI Floor Care North America, Main Plant, North Canton, Ohio (TA-W-58,495); Plant Two, Canton, Ohio (TA-W-58,495A), and Distribution Center, North Canton, Ohio (TA-W-58,495B), who became totally or partially separated from employment on or after August 28, 2005, through January 24 2008, are eligible to apply for adjustment assistance under Section 223 of the Trade Act of 1974, and are also eligible to apply for alternative trade adjustment assistance under Section 246 of the Trade Act of 1974.

Signed at Washington, DC, this 4th day of April 2008.
Richard Church,
Certifying Officer, Division of Trade Adjustment Assistance.

[FR Doc. E8-8245 Filed 4-16-08; 8:45 am]

BILLING CODE 4510-FN-P